DEPARTMENT OF THE TREASURY

Submission for OMB Review; Comment Request

June 15, 2001.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 23, 2001 to be assured of consideration.

Internal Revenue Service (IRS)

OMB Number: 1545-1072.

Regulation Project Number: INTL-952-86 NPRM and Temporary.

Type of Review: Extension.

Title: Allocation and Apportionment of Interest Expense and Certain Other Expenses.

Description: The regulations provide rules concerning the allocation and apportionment of expenses to foreign source income for purposes of the foreign tax credit and other provisions.

Respondents: Individuals or households, Business or other for-profit.

Estimated Number of Respondents/Recordkeepers: 15,000.

Estimated Burden Hours Per Respondent/Recordkeeper: 15 minutes.

Frequency of Response: On occasion.

Estimated Total Reporting./Recordkeeping Burden: 3,750 hours.

OMB Number: 1545-1265.

Regulation Project Number: IA-120-86 Final.

Type of Review: Extension.

Title: Capitalization of Interest.

Description: The regulations require taxpayers to maintain contemporaneous written records of estimates, to file a ruling request to segregate activities in applying the interest capitalization rules, and to request the consent of the Commissioner to change their methods of accounting for the capitalization of interest.

Respondents: Individuals or households, Business or other for-profit.

Estimated Number of Respondents: 50.

Estimated Number of Recordkeepers: 500,000.

Estimated Burden Hours Per Respondent: 2 hours.

Estimated Burden Hours Per Recordkeeper: 14 minutes.

Frequency of Response: On occasion.

Estimated Total Reporting/Recordkeeping Burden: 116,767 hours.

Clearance Officer: Garrick Shear, Internal Revenue Service, Room 5244, 1111 Constitution Avenue, NW., Washington, DC 20224.

OMB Reviewer: Alexander T. Hunt (202) 395-7860, Office of Management and Budget, Room 10202, New Executive Office Building, Washington, DC 20503.

Lois K. Holland,
Departmental Reports Management Officer.

[FR Doc. 01-15631 Filed 6-20-01; 8:45 am]

BILLING CODE 4830-01-P